DEPARTMENT OF AGRICULTURE

Submission for OMB Review; Comment Request

September 18, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by October 24, 2014 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Volunteer Programs.

OMB Control Number: 0560-0232.

Summary of Collection: Section 1526 of the Food and Agriculture Act of 1981 (7 U.S.C. 2272) permits the Secretary of Agriculture to establish a program to use volunteers to perform a wide range of activities to carry out the programs of or supported by the Department of Agriculture (USDA). Each USDA agency is granted with the authority to establish programs designed to provide educationally related work assignments for students in non-pay status. USDA, Departmental Regulation 4230-1 requires documentation of service performed without compensation by persons who do not receive Federal appointment. This information collection request is necessary in order to continue implementation of the programs, which allow Agencies to use volunteers to perform a wide range of activities to carry out the programs of or supported by the Agency.

Need and Use of the Information: Applicants who are accepted in the program will complete the “Service Agreement and Attendance Record.” The Farm Service Agency (FSA) will use the recorded information to respond to request for information on volunteers from the USDA Office of Human Resources Management. If the information were not collected for each volunteer, FSA would be unable to document service performed without compensation by persons in the program.

Description of Respondents: Individuals or households.

Number of Respondents: 60.

Frequency of Responses: Reporting: Annually.

Total Burden Hours: 30.

Ruth Brown,
Departmental Information Collection Clearance Officer.

[FR Doc. 2014-22676 Filed 9-23-14; 8:45 am]

BILLING CODE 3410-05-P